DEPARTMENT OF THE INTERIOR

Fish and Wildlife Service

Notice of Receipt of Application for Endangered Species Permit

AGENCY: Fish and Wildlife Service, Interior.

ACTION: Notice of receipt.

The following applicant has applied for a permit to conduct certain activities with an endangered species. This notice is provided pursuant to section 10(c) of the Endangered Species Act of 1973, as amended.

Applicant: U.S. Geological Survey, Silvio O. Conte Anadromous Fish Research Center, Turners Falls, Massachusetts, PRT-TE050317-0.

The applicant requests authorization to take (harm, harass, and kill) 12,000 eyed eggs of the Atlantic salmon (Salmo salar). The eggs were captively bred at the U.S. Fish and Wildlife Service's Craig Brook National Fish Hatchery, East Orland, Maine, and will be transferred to the Conte Anadromous Fish Research Center, Turners Falls, Massachusetts to conduct specific research activities.

Written data or comments should be submitted to the Regional Permits Coordinator, U.S. Fish and Wildlife Service, 300 Westgate Center Drive, Hadley, Massachusetts, 01035, and must be received within 30 days of the date of this publication.

Documents and other information submitted with this application are available for review by any party who submits a written request for a copy of such documents to the following office within 30 days of the date of publication of this notice: U.S. Fish and Wildlife Service, 300 Westgate Center Drive, Hadley, Massachusetts 01035. Attention: Diane Lynch, Regional Permits Coordinator. Telephone: 413-253-8628; Fax: 413-253-8482.

Dated: November 21, 2001.
Richard O. Bennett,
Acting Regional Director.

[FR Doc. 01-31105 Filed 12-14-01; 8:45 am]

BILLING CODE 4310-55-P